DEPARTMENT OF DEFENSE

Department of the Army

U.S. Army Science Board; Notice of Federal Advisory Committee Meeting

AGENCY: Department of the Army, DoD.

ACTION: Notice of Federal Advisory Committee meeting.

SUMMARY: The Department of Defense is publishing this notice to announce that the following Federal Advisory Committee meeting of the U.S. Army Science Board (ASB) will take place.

DATES: Thursday, July 17, 2019. Time: 7:30 a.m.-5:00 p.m.

ADDRESSES: The Arnold and Mabel Beckman Center of the National Academies of Sciences and Engineering, 100 Academy Way, Irvine, CA 92617.

FOR FURTHER INFORMATION CONTACT: Ms. Heather J. Gerard, (703) 545-8652 (Voice), 571-256-3383 (Facsimile), heather.j.gerard.civ@mail.mil (Email). Mailing address is Army Science Board, 2530 Crystal Drive, Suite 7098, Arlington, VA 22202. Website: https://asb.army.mil/.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is for ASB members to review, deliberate, and vote on the findings and recommendations presented for five Fiscal Year 2019 (FY19) ASB studies.

Agenda: The ASB will present findings and recommendations for deliberation on the following FY19 studies: “Reforming Talent Management in the Army”, “Battlefield Uses of Artificial Intelligence”, “Army Futures Command”, and “An Independent Assessment of the U.S. Army Corps of Engineers' (USACE) Effectiveness in Delivering the Nation's Civil Works Program”. The open portion of the meeting is scheduled for July 17, 2019 from 7:30 a.m. to 3:00 p.m. and will be accessible to the public and press. The study “An Independent Assessment of the Next Generation Anti-Armor Strategy” is classified and will be presented in a closed meeting at 3:30 p.m. to 5:00 p.m.

Meeting Accessibility: Pursuant to 5 U.S.C. 552b, as amended, and 41 CFR 102-3.155, the Department of the Army has determined that the 3:30 p.m. to 5:00 p.m. portion of the meeting shall be closed to the public. Specifically, consistent with 5 U.S.C. 552b(c)(1), the Administrative Assistant to the Secretary of the Army, in consultation with the Office of the Army General Counsel, has determined in writing that the public interest requires that the 3:30 p.m. to 5:00 p.m. portion of the committee's meeting will be closed to the public because the meeting is likely to disclose matters that are (A) specifically authorized under criteria established by an Executive order to be kept secret in the interest of national defense or foreign policy and (B) in fact properly classified pursuant to such Executive order.

Written Statements: Pursuant to 41 CFR 102-3.105(j) and 102-3.140, and § 10(a)(3) of the Federal Advisory Committee Act of 1972, the public or interested organizations may submit written statements to the ASB about its mission and functions. Written statements may be submitted at any time or in response to the stated agenda of a planned meeting of the ASB. All written statements must be submitted to the Designated Federal Officer (DFO) at the address listed above, and this individual will ensure that the written statements are provided to the membership for their consideration. Written statements not received at least 10 calendar days prior to the meeting may not be considered by the ASB prior to its scheduled meeting. After reviewing written comments, the DFO may choose to invite the submitter of the comments to orally present their issue during a future open meeting.

Brenda S. Bowen,
Army Federal Register Liaison Officer.

[FR Doc. 2019-13000 Filed 6-18-19; 8:45 am]

BILLING CODE 3710-08-P